DEPARTMENT OF LABOR

Office of the Secretary

Bureau of International Labor Affairs; National Advisory Committee for Labor Provisions of U.S. Free Trade Agreements

AGENCY: Office of the Secretary, Department of Labor.

ACTION: Notice of charter renewal.

SUMMARY: Pursuant to the provisions of the Federal Advisory Committee Act, the North American Agreement on Labor Cooperation (NAALC), and the Labor Provisions of U.S. Free Trade Agreements, the Secretary of Labor has determined that the renewal of the charter of the National Advisory Committee for Labor Provisions of U.S. Free Trade Agreements is necessary and in the public interest. The committee shall provide its views to the Secretary of Labor through the Bureau of International Labor Affairs of the U.S. Department of Labor, which is the point of contact for the NAALC and the Labor Provisions of U.S. Free Trade Agreements. The committee is to be comprised of twelve members, four representing the labor community, four representing the business community, and four representing the public.

Purpose: In accordance with the provisions of the Federal Advisory Committee Act, Article 17 of the NAALC, Article 17.4 of the United States-Singapore Free Trade Agreement, Article 18.4 of the United States-Chile Free Trade Agreement, Article 18.4 of the United States-Australia Free Trade Agreement, Article 16.4 of the United States-Morocco Free Trade Agreement, Article 16.4 of the Central America-Dominican Republic-United States Free Trade Agreement (CAFTA-DR), and Article 15.4 of the United States-Bahrain Free Trade Agreement, the Secretary of Labor has determined that the renewal of the charter of the National Advisory Committee for Labor Provisions of U.S. Free Trade Agreements is necessary and in the public interest.

The Bureau of International Labor Affairs is the point of contact within the U.S. Department of Labor for the NAALC and the labor provisions of the United States-Singapore, United States-Chile, United States-Australia Free Trade Agreements, United States-Morocco Free Trade Agreement, the Central America-Dominican Republic-United States Free Trade Agreement (CAFTA-DR), and the United States-Bahrain Free Trade Agreement.

The committee shall provide its views to the Secretary of Labor through the Bureau of International Labor Affairs of the U.S. Department of Labor on the implementation of the NAALC and the labor chapters of the United States-Singapore Free Trade Agreement, the United States-Chile Free Trade Agreement, the United States-Australia Free Trade Agreement, United States-Morocco Free Trade Agreement, the Central America-Dominican Republic-United States Free Trade Agreement (CAFTA-DR), and the United States-Bahrain Free Trade Agreement. The committee may be asked to provide advice on labor provisions of other free trade agreements to which the United States may be a party or become a party. The committee should provide advice on issues within the scope of the NAALC and the labor provisions of the free trade agreements, including cooperative activities and the labor cooperation mechanism of each free trade agreement as established in the labor provisions and the corresponding annexes. The committee may provide advice on these and other matters as they arise in the course of administering the NAALC and the labor provisions of other free trade agreements to which the United States may be a party or become a party.

The committee is to be comprised of twelve members, four representing the labor community, four representing the business community, and four representing the public. Unless already employees of the United States Government, none of these members shall be deemed to be employees of the United States Government.

FOR FURTHER INFORMATION CONTACT: Celeste Helm, Division Chief, Division of Trade Agreement Administration and Technical Cooperation, Bureau of International Labor Affairs, U.S. Department of Labor, telephone (202) 693-4775.

Signed at Washington, DC this 16th day of May 2007.
James Carter,
Deputy Undersecretary, International Labor Affairs.

[FR Doc. E7-9778 Filed 5-21-07; 8:45 am]

BILLING CODE 4510-28-P